DEPARTMENT OF ENERGY

Federal Energy Regulatory Commission

[Docket No. EC04-115-000, et al.]

Granite II Holding, LLC, et al.; Electric Rate and Corporate Filings

June 3, 2004.

The following filings have been made with the Commission. The filings are listed in ascending order within each docket classification.

1. Granite II Holding, LLC; LSP Energy Limited Partnership; and CEP Batesville Acquisition, LLC

[Docket No. EC04-115-000]

Take notice that on June 1, 2004, Granite II Holding, LLC (Granite II), LSP Energy Limited Partnership (LSP Energy) and CEP Batesville Acquisition, LLC (CEP Batesville) (collectively, Applicants) filed with the Federal Energy Regulatory Commission an application pursuant to section 203 of the Federal Power Act, 16 U.S.C. 824b, and part 33 of the Commission's regulations, 18 CFR part 33, for authorization of a disposition of certain jurisdictional facilities. Applicants state that the proposed disposition of jurisdictional facilities will occur in connection with the sale by Granite II to CEP Batesville of all of the issued and outstanding membership interests in LSP Batesville Holding, LLC, a Delaware limited liability company. LSP Batesville Holding, LLC indirectly owns LSP Energy, which owns and operates an 837 MW gas-fired combined-cycle electric generating facility located in Batesville, Mississippi (the Facility) that is interconnected with the transmission systems of Entergy Services, Inc. and Tennessee Valley Authority and makes wholesale sales of electricity at market-based rates.

Applicant's state that a copy of the application was served upon the Mississippi Public Service Commission and the customers of LSP Energy.

Comment Date: June 22, 2004.

2. Coleto Creek WLE, LP

[Docket No. EG04-55-000]

Take notice that on June 2, 2004, Coleto Creek WLE, LP, 101 Ash Street, San Diego, California 92101 filed with the Federal Energy Regulatory Commission a supplement to its April 29, 2004, application for determination of exempt wholesale generator status pursuant to part 365 of the Commission's Regulations.

Comment Date: June 14, 2004.

3. E. S. Joslin, LP

[Docket No. EG04-58-000]

Take notice that on June 2, 2004, E. S. Joslin, LP, 101 Ash Street, San Diego, California 92101 filed with the Federal Energy Regulatory Commission a supplement to its April 29, 2004, application for determination of exempt wholesale generator status pursuant to part 365 of the Commission's Regulations.

Comment Date: June 14, 2004.

4. Laredo WLE, LP

[Docket No. EG04-64-000]

Take notice that on June 2, 2004, Laredo WLE, LP, 101 Ash Street, San Diego, California 92101 filed with the Federal Energy Regulatory Commission a supplement to its April 29, 2004, application for determination of exempt wholesale generator status pursuant to part 365 of the Commission's Regulations.

Comment Date: June 14, 2004.

5. Midwest Independent Transmission; System Operator, Inc. and PJM Interconnection, L.L.C.

[Docket No. ER04-375-005]

Take notice that on May 28, 2004, the Midwest Independent Transmission System Operator, Inc. (Midwest ISO) filed an amendment to its April 2, 2004, filing of a Joint Operating Agreement (JOA) between the Midwest ISO and PJM Interconnection, L.L.C. (PJM), in compliance with the Commission's May 17, 2004, letter request for additional information.

Midwest ISO states that it has served a copy of this filing as directed in the May 17, 2004 letter. In addition, Midwest ISO states that the filing has been electronically posted on the Midwest ISO's Web site at http://www.midwestiso.org under the heading “Filings to FERC” for other interested parties in this matter. The Midwest ISO will provide hard copies to any interested parties upon request.

Comment Date: June 11, 2004.

6. PacifiCorp

[Docket No. ER04-439-002]

Take notice that on June 1, 2004, PacifiCorp (PacifiCorp) tendered for filing an amendment to its January 20, 2004, filing under Docket No. ER04-439-000. PacifiCorp states that this amended filing revises certain provisions of PacifiCorp's Open Access Transmission Tariff relating to Energy Imbalance calculations.

PacifiCorp states that copies of this filing were supplied to the parties on the service list under Docket No. ER04-439-000 including the Public Utility Commission of Oregon, and the Washington Utilities and Transportation Commission.

Comment Date: June 22, 2004.

7. Jersey Central Power and Light Company

[Docket No. ER04-727-002 ]

Take notice that on May 27, 2004, Jersey Central Power and Light Company, a FirstEnergy Company, (Jersey Central) submitted an amendment to its April 9, 2004, filing in Docket No. ER04-727-000. Jersey Central states that the filing consists of some relevant material that was inadvertently omitted from its May 21, 2004, amendment of the April 9, 2004, filing.

Jersey Central states that copies of this filing have been served on regulators in New Jersey, OPP and PJM.

Comment Date: June 17, 2004.

8. Sierra Pacific Resources Operating Companies

[Docket No. ER04-877-000]

Take notice that on May 27, 2004, Sierra Pacific Resources Operating Companies (Sierra) tendered for filing a unilateral amendment to their FERC Electric Tariff, First Revised Volume No. 1, Service Agreement No. 97 with Duke Energy North America, LLC and Duke Energy Trading and Marketing, L.L.C.

Comment Date: June 17, 2004.

9. Equus Power I, L.P.

[Docket No. ER04-878-000]

Take notice that on May 28, 2004, Equus Power I, L.P. (Equus Power) filed with the Commission, pursuant to section 205 of the Federal Power Act, an Application for Order Accepting Initial Market Based Rate Tariff and Granting Certain Waivers and Blanket Approvals, which would allow Equus Power to engage in the sale of electric energy, capacity and ancillary services at market-based rates. Equus Power states that it is engaged in the business of owning and operating a 47 MW generation facility located in The Village of Freeport, New York. Equus Power also seeks certain waivers and blanket approvals under the Commission's Regulations, expedited review, and a waiver of the sixty (60)-day notice requirement under 18 CFR 35.3 (2003).

Comment Date: June 18, 2004.

10. Sunoco Power Generation LLC

[Docket No. ER04-879-000]

Take notice that on May 27, 2004, Sunoco Power Generation LLC (Sunoco Power) filed for application for authority to sell capacity, energy, and certain ancillary services at market-based rates, pursuant to section 35.3(a) of the Commission's regulations. Sunoco Power requests waiver of the Commission's standard 60-day notice requirement to permit an effective date as of the date Sunoco Power commences the sale of energy generated by the Eagle Point Cogeneration Facility.

Comment Date: June 17, 2004.

11. Central Vermont Public Service Corporation

[Docket No. ER04-880-000]

Take notice that on May 27, 2004, Central Vermont Public Service Corporation (CVPS) tendered for filing the Actual 2003 Cost Report required under Paragraph Q-1 on Original Sheet No. 18 of the Rate Schedule FERC No. 135 (RS-2 Rate Schedule) under which Central Vermont Public Service Corporation (Company) sells electric power to Connecticut Valley Electric Company Inc. (Customer). CVPS states that the Actual 2003 Cost Report reflect changes to the RS-2 Rate Schedule which were approved by the Commission's order issued June 6, 1989 in Docket No. ER88-456-000.

CVPS states that copies of the filing were served upon the Customer, the New Hampshire Public Utilities Commission, and the Vermont Public Service Board.

Comment Date: June 17, 2004.

12. Deseret Generation & Transmission Co-operative, Inc.

[Docket No. ER04-881-000]

Take notice that on May 27, 2004, Deseret Generation & Transmission Co-operative, Inc. (Deseret) tendered an informational filing in compliance with Service Agreements on file with the Commission. Deseret states that the filing sets forth the revised approved costs for member-owned generation resources and the revised approved reimbursements under its Resource Integration Agreements with two of its members, Garkane Power Association, Inc. and Moon Lake Electric Association, Inc.

Deseret states that a copy of this filing has been served upon all of Deseret's members.

Comment Date: June 17, 2004.

13. New England Power Pool

[Docket No. ER04-882-000]

Take notice that on May 28, 2004, the New England Power Pool (NEPOOL) Participants Committee filed for acceptance materials to permit NEPOOL to expand its membership to include Littleton (NH) Water and Light Department (Littleton) and UPC Wind Management, LLC (UPC). NEPOOL Participants Committee requests an effective date of June 1, 2004 for the commencement of participation in NEPOOL by Littleton and UPC.

NEPOOL Participants Committee states that copies of these materials were sent to the New England state governors and regulatory commissions and the Participants in NEPOOL.

Comment Date: June 18, 2004.

14. West Penn Power Company

[Docket No. ER04-883-000]

Take notice that on May 27, 2004, Allegheny Energy Service Corporation on behalf of West Penn Power Company (WPP), doing business as Allegheny Power, tendered for filing a Notice of Termination of Service Agreement No. 74 under Allegheny Power FERC Electric Tariff, Original Volume No. 6, a Power Service Agreement between WPP and Letterkenny Industrial Development Authority.

Allegheny Energy Service Corporation on behalf of WPP states that copies of the filing have been provided to the customer and their counsel of record and the Pennsylvania Public Utility Commission.

Comment Date: June 17, 2004.

15. Ameren Services Company

[Docket No. ER04-884-000]

Take notice that on May 27, 2004, Ameren Services Company, on behalf of Union Electric Company dba AmerenUE and Central Illinois Public Service Company dba AmerenCIPS (collectively, Ameren), submitted for filing proposed revisions to the Open Access Transmission Tariff (OATT) of the Ameren Operating Companies to accommodate the transfer of functional control of the AmerenUE and AmerenCIPS transmission systems to GridAmerica and the Midwest ISO on May 1, 2004. Ameren requests that the Commission accept the revised OATT effective May 1, 2004.

Ameren states that it has served a copy of this filing on the Illinois Commerce Commission and the Missouri Public Service Commission and has notified all affected customers of the filing.

Comment Date: June 17, 2004.

16. Entergy Services, Inc.

[Docket No. ER04-886-000]

Take notice that on May 27, 2004, Entergy Services, Inc. (Entergy Services), acting as agent for Entergy Arkansas, Inc., Entergy Gulf States, Inc., Entergy Louisiana, Inc., Entergy Mississippi, Inc., and Entergy New Orleans, Inc. (collectively, the Entergy Operating Companies), tendered for filing its 2004 annual rate redetermination update (Update) in accordance with its Open Access Transmission Tariff. Entergy Services states that the Update redetermines the formula rate in accordance with the annual rate redetermination provisions of Appendix 1 to Attachment H and Appendix A to Schedule 7.

Entergy Services further states that copies of the Update have been served upon its transmission customers and its state and local regulatory commissions.

Comment Date: June 17, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Linda Mitry,
Acting Secretary.

[FR Doc. E4-1291 Filed 6-9-04; 8:45 am]

BILLING CODE 6717-01-P